DEPARTMENT OF DEFENSE

Department of the Army

[Docket ID USA-2020-HQ-0015]

Submission for OMB Review; Comment Request

AGENCY: U.S. Army Research Institute for the Behavioral and Social Sciences (ARI), Department of Defense (DoD).

ACTION: 30-Day information collection notice.

SUMMARY: The Department of Defense has submitted to OMB for clearance the following proposal for collection of information under the provisions of the Paperwork Reduction Act.

DATES: Consideration will be given to all comments received by March 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: ARI Game Evaluation; OMB Control Number 0702-XXXX.

Type of Request: New collection.

Number of Respondents: 100.

Responses per Respondent: 1.

Annual Responses: 100.

Average Burden per Response: 14 minutes.

Annual Burden Hours: 23.3.

Needs and Uses: The U.S. Army Research Institute for the Behavioral and Social Sciences (ARI) is developing an innovative game-based assessment to evaluate an individual's systems thinking abilities. Systems thinking is important for job success in areas such as cyber security, engineering, and mission planning. As an assessment, the Systems Thinking Abilities game needs to be evaluated to ensure it measures what is intended and relates to performance in jobs that require systems thinking. This Information Collection will follow best practices in assessment development by collecting feedback about the ease of use, clarity, and usability from individuals who complete the Systems Thinking Abilities game and by collecting demographic information about those individuals to ensure they are similar to the intended end users. The game players are freelance workers from Amazon's Mechanical Turk (MTurk) site who will be paid to play the Systems Thinking Abilities game and respond to the questions included in this information collection. Respondents will not be sent invitations to participate, instead they can sign up to participate through the MTurk website. Each participant will complete the Systems Thinking Abilities game, the evaluation questions and the demographic information using his or her computer from a location of his or her choice. The ARI Game Evaluation Form will be linked through the MTurk site and responses will be entered and returned online. Once participants complete their assigned section(s) they will be paid for their time through MTurk. Data will be analyzed following completion of data collection activities.

Evaluation Questions: Participants will respond to a series of multiple choice and open-ended questions to capture their experience with the Systems Thinking Abilities game. These questions are included on the ARI Game Evaluation Form. The collected data will be retrieved and processed by Personnel Decisions Research Institutes (PDRI), a contractor working for ARI. Summary statistics will be generated and the open-ended feedback will be content coded. The information collected on participant feedback will be used to identify modifications needed to the software to improve the clarity or ease of use. Findings will be documented in a technical report.

Demographic Questions: Participants will complete questions through an online survey format regarding demographics and background experiences. Demographic questions include age, gender, ethnicity, race, education attainment, and experience questions related to past experience with computer technology. These questions are included on the ARI Game Evaluation Form. The collected data will be retrieved and processed by PDRI. The demographic information will be documented in a technical report describing the initial testing.

Affected Public: Individuals or households.

Frequency: One-time collection.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: February 18, 2021.
Aaron T. Siegel,
Alternate OSD Federal Register Liaison Officer, Department of Defense.

[FR Doc. 2021-03992 Filed 2-25-21; 8:45 am]

BILLING CODE 5001-06-P